DEPARTMENT OF TRANSPORTATION

Federal Aviation Administration

14 CFR Part 39

[Docket No. 99-NE-49-AD; Amendment 39-11560; AD 2000-03-03]

RIN 2120-AA64

Airworthiness Directives; General Electric Company (GE) CF34 Series Turbofan Engines; Correction

AGENCY: Federal Aviation Administration, DOT.

ACTION: Final rule; correction.

SUMMARY: This document makes a correction to Airworthiness Directive (AD) 2000-03-03 that is applicable to certain General Electric Company CF34 series turbofan engines that was published in the Federal Register on February 7, 2000 (65 FR 5759). Two subpart names and two mandatory inspections were inadvertently omitted from the Mandatory Inspection Requirements of Table 804. This document corrects this Table by adding the subparts and inspections.

EFFECTIVE DATE: March 23, 2000.

FOR FURTHER INFORMATION CONTACT: Kevin Donovan, Aerospace Engineer, Engine Certification Office, FAA, Engine and Propeller Directorate, 12 New England Executive Park, Burlington, MA 01803-5299; telephone (781) 238-7743, fax (781) 238-7199.

SUPPLEMENTARY INFORMATION: A final rule airworthiness directive applicable to General Electric Company CF34 series turbofan engines, was published in the Federal Register on February 7, 2000 (65 FR 5759). In the compliance section, an omission was made in Table 804 of the Mandatory Inspection Requirements. This correction adds necessary subpart names and inspections to the mandatory inspection requirements:

§ 39.13 [Corrected]

1. On page 5760, in AD 2000-03-03, table 804 is corrected to read as follows:

* * * * *

Table 804.—Mandatory Inspection Requirements
Part name/part No. | Chapter/section subject | Mandatory inspection
Fan Disk (all) | 72-21-00, INSPECTION | All Areas (FPI) ¹ Bores (ECI) ²
Stage 1 HPT Rotor Disk (all) | 72-46-00, INSPECTION | All Areas (FPI) ¹ Bores (ECI) ² Boltholes (ECI) ² Air Holes (ECI) ²
Stage 2 HPT Rotor Disk (all) | 72-46-00, INSPECTION | All Areas (FPI) ¹ Bores (ECI) ²
(a) Boltless Rim Configuration |  | Boltholes (FPI) ¹ Air Holes (FPI) ¹
(b) Bolted Rim Configuration |  | Boltholes (ECI) ² Air Holes (ECI) ²
HPT Rotor Outer Torque | 72-46-00, INSPECTION | All Areas (FPI) ¹
Coupling (all) |  | Bores (ECI) ²
¹ FPI = Fluorescent Penetrant Inspection Method.
² ECI = Eddy Current Inspection Method.

* * * * *

David A. Downey,
Assistant Manager, Engine and Propeller Directorate, Aircraft Certification Service.

[FR Doc. 00-6489 Filed 3-22-00; 8:45 am]

BILLING CODE 4910-13-P